DEPARTMENT OF COMMERCE

National Oceanic and Atmospheric Administration

[I.D. 010703D]

Pacific Fishery Management Council; Public Meeting/Workshop

AGENCY: National Marine Fisheries Service (NMFS), National Oceanic and Atmospheric Administration (NOAA), Commerce.

ACTION: Notice of public meeting.

SUMMARY: The Pacific Fishery Management Council (Council) will hold a workshop to review the NMFS Northwest Fisheries Science Center's (NWFSC) bycatch model, and make recommendations regarding how new observer data would be incorporated into the bycatch model.

DATES: The three-day workshop will begin on Monday, January 27, 2003 at 10 a.m. and conclude on Wednesday, January 29, 2003. On Tuesday, January 28 and Wednesday, January 29, the workshop will convene at 8 a.m. and continue until business for the day is completed. Public comments will be allowed at times to be specified by the chair.

ADDRESSES: The workshop will be held at NMFS Northwest Fisheries Science Center, in room 370 W, 2725 Montlake Boulevard East, Seattle, WA 98112; (206) 860-3200.

Council address: Pacific Fishery Management Council, 7700 NE Ambassador Place, Suite 200, Portland, OR 97220-1384.

FOR FURTHER INFORMATION CONTACT: Dr. Ed Waters, Fishery Economics Staff Officer; telephone: (503) 820-2280.

SUPPLEMENTARY INFORMATION: The purpose of the workshop is to review the NWFSC bycatch model and to consider how the new observer data being collected by NWFSC would be incorporated into the bycatch model. The workshop panel will include two members each from the Pacific Fishery Management Council's Scientific and Statistical Committee (SSC) Economics Subcommittee, the SSC Groundfish Subcommittee, the Council's Groundfish Management Team (GMT), the Council's Groundfish Advisory Subpanel (GAP), and independent experts. The chair of the SSC Economics Subcommittee will chair the panel.

Specific tasks for the panel include, (1) review existing literature and methodologies for estimating bycatch rates and discards (including the use of observer data), (2) review code, documentation and results for the NWFSC bycatch model, (3) review status and coverage of NMFS West Coast observer data, (4) review proposals for incorporating observer data into the 2003 bycatch model, and (5) report findings and recommendations to the Council. A complete agenda and terms of reference for the workshop will be posted on the Council's website (http://www.pcouncil.org/).

Although nonemergency issues not contained in the workshop meeting agenda may come before the panel for discussion, those issues may not be the subject of formal action during this meeting. Action will be restricted to those issues specifically listed in this document and any issues arising after publication of this document that require emergency action under section 305(c) of the Magnuson-Stevens Fishery Conservation and Management Act, provided the public has been notified of the panel's intent to take final action to address the emergency.

Special Accommodations

The meeting site is physically accessible to people with disabilities. Requests for sign language interpretation or other auxiliary aids should be directed to Mr. Michael Lemon at (206) 860-3341, at least 5 days prior to the meeting date.

Dated: January 8, 200.
Richard W. Surdi,
Acting Director, Office of Sustainable Fisheries, National Marine Fisheries Service.

[FR Doc. 03-636 Filed 1-10-03; 8:45 am]

BILLING CODE 3510-22-S